DEPARTMENT OF HEALTH AND HUMAN SERVICES

Centers for Disease Control and Prevention

[60Day-23-1294; Docket No. CDC-2022-0143]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Maternal Mortality Review Information Application (MMRIA). MMRIA is a standardized data collection system that allows Maternal Mortality Review Committees (MMRCs) to abstract relevant data from a variety of sources, document committee decisions, and analyze data to better understand the contributing factors and preventability of pregnancy-related deaths in order to develop recommendations for prevention.

DATES: CDC must receive written comments on or before March 13, 2023.

ADDRESSES: You may submit comments, identified by Docket No. CDC-2022-0143 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7118; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

The Maternal Mortality Review Information Application (MMRIA) (OMB Control No. 0920-1294, Exp. 04/30/2023)—Revision—National Center for Chronic Disease Prevention and Health Promotion (NCCDPHP), Centers for Disease Control and Prevention (CDC).

Background and Brief Description

The Centers for Disease Control and Prevention (CDC) seeks a Revision to continue to collect information through the Maternal Mortality Review Information Application (MMRIA) for three more years. MMRIA is a standardized data collection system that allows Maternal Mortality Review Committees (MMRCs) across the country to abstract relevant data (clinical and non-clinical) from a variety of sources, document committee decisions, and analyze data in order to better understand the contributing factors and preventability of pregnancy-related deaths and thus to develop recommendations for prevention.

Pregnancy-related deaths are defined as a death as a result of pregnancy or delivery complications, a chain of events initiated by pregnancy, or the aggravation of an unrelated condition by the physiologic effects of pregnancy. Considerable racial disparities exist, with persons who are American Indian/Alaska Native and Black persons two to three times more likely to die from pregnancy-related complications than persons who are White. Findings from analyses of aggregated MMRC data indicate that about four out of five pregnancy-related deaths are preventable.

Maternal Mortality Review is a process by which a multidisciplinary committee at the jurisdiction level identifies and reviews cases of death that occur during or within one year of end of pregnancy. Members of MMRCs typically represent public health, obstetrics and gynecology, maternal-fetal medicine, nursing, midwifery, forensic pathology, mental and behavioral health, community-based organizations, and other relevant partners. Through a partnership among the MMRC, state vital records office, and epidemiologists, deaths among females of reproductive age are examined to determine if they occurred during pregnancy or within one year of the end of pregnancy (i.e., pregnancy-associated deaths). Through this process, potential cases of pregnancy-related deaths (i.e., death from any cause related to or aggravated by pregnancy or its management) are then identified. Review committees access multiple sources of clinical and non-clinical information to understand the circumstances surrounding a death in order to determine pregnancy-relatedness and develop recommendations for action to prevent similar deaths in the future.

MMRIA is a standardized data collection system designed to support MMRC processes. Data are abstracted and entered into MMRIA from various sources, including death records, autopsy reports, birth and fetal death records, prenatal care records, emergency department visit records, hospitalization records, records from other medical office visits, medical transport records, social and environmental profiles, mental health profiles, and informant interviews. Case narratives for committee reviews are developed from the abstracted data entered into MMRIA to facilitate committee review, and committee decisions based on their review are also be entered into MMRIA. The data collected in MMRIA is used to facilitate an understanding of the drivers of maternal mortality and complications of pregnancy and associated disparities; determine what interventions at patient, provider, facility, system, and community levels will have the most impact; and implement data driven recommendations.

The burden estimates presented here are applicable to the 40 jurisdictions with funding support through the cooperative agreements Preventing Maternal Deaths: Supporting Maternal Mortality Review Committees (CDC-RFA-DP19-1908) and Preventing Maternal Mortality: Supporting Maternal Mortality Review Committees CDC-RFA-DP22-2211) which includes 39 direct awardees and one sub-awardee. These jurisdictions are required to compile a defined set of information about pregnancy-related deaths into MMRIA. It is estimated that information will be collected for a total of 1,983 pregnancy-associated deaths on average, annually, among the 40 jurisdictions with funding support through CDC-RFA-DP19-1908 and CDC-RFA-DP22-2211. For 23 jurisdictions, it is estimated that on average, 15 hours of data abstraction are required for each death entered into MMRIA. The other 17 jurisdictions are able to participate in a process to reduce burden by which CDC uploads vital records information into MMRIA rather than jurisdiction staff manually abstracting vital records. For these 17 jurisdictions, the estimated average is 14 hours of abstraction for each death entered into MMRIA. For all jurisdictions with funding support through CDC-RFA-DP19-1908 and CDC-RFA-DP22-2211, an additional 24 minutes on average is needed to enter the committee decisions into MMRIA.

There are four changes that result in this request for revision, with the first three having an impact on the estimated burden for this revision. First, through additional congressional appropriations, an additional 15 jurisdictions are now funding recipients. This represents an increase from 24 to 39 funding recipients. There is a total of 40 respondents, because one funding recipient provides a subaward to an additional respondent. Second, CDC estimates a higher number of pregnancy-associated deaths due to utilizing data from the Pregnancy Mortality Surveillance System (PMSS) rather than CDC WONDER for these estimates. PMSS estimates of pregnancy-associated deaths are more accurate due to more comprehensive and complete identification of these deaths through multiple case identification methods. Third, CDC has been working with the National Association for Public Health Statistics and Information Systems on an initiative that enables CDC to transfer vital records data associated with CDC identified pregnancy-associated deaths directly into a jurisdiction's instance of MMRIA, reducing manual data entry burden for the 17 respondents participating in the initiative. Fourth, to address user identified needs and increase data use for analysis by jurisdictions, a total of 60 new optional fields were added to MMRIA, three fields removed, and two fields combined. None of the added fields are required fields.

These changes resulted in an overall increase to the estimated burden from the previous approval. CDC requests OMB approval for an estimated 29,950 annual burden hours. There is no cost to respondents other than their time to participate.

Estimated Annualized Burden Hours
Type of respondent | Form name | Number of respondents | Number of responses per respondent | Average burden per response (in hr) | Total burden (in hr)
Jurisdictions with funding support through CDC-RFA-DP19-1908 and CDC-RFA-DP22-2211 who manually abstract all data into MMRIA | MMRIA data abstraction | 23 | 50 | 15 | 17,250
Jurisdictions with funding support through CDC-RFA-DP19-1908 and CDC-RFA-DP22-2211 for which CDC is uploading vital records into MMRIA and jurisdiction staff abstract remaining data manually into MMRIA | MMRIA data abstraction | 17 | 50 | 14 | 11,900
All jurisdictions with funding support through CDC-RFA-DP19-1908 and CDC-RFA-DP22-2211 | MMRIA committee decisions form | 40 | 50 | 0.4 | 800
Total |  |  |  |  | 29,950

Jeffrey M. Zirger,
Lead, Information Collection Review Office, Office of Scientific Integrity, Office of Science, Centers for Disease Control and Prevention.

[FR Doc. 2023-00334 Filed 1-10-23; 8:45 am]

BILLING CODE 4163-18-P